DEPARTMENT OF ENERGY

Federal Energy Regulatory Commission

[Project No. 2905-035]

Village of Enosburg Falls, Vermont; Notice of Meeting

a. Project Name and Number: Enosburg Falls Hydroelectric Project No. 2905.

b. Applicant: Village of Enosburg Falls, Vermont.

c. Date and Time of Meeting: Tuesday, February 18, 2025, from 1 p.m. to 2 p.m. eastern standard time.

d. FERC Contact: Arash Barsari, telephone at (202) 502-6207, or email at Arash.JalaliBarsari@ferc.gov.

e. Purpose of Meeting: Commission staff will hold a meeting with representatives from the Vermont Division for Historic Preservation (Vermont SHPO) and the Village of Enosburg Falls, Vermont (Village) to discuss Commission staff's draft Programmatic Agreement and the Area of Potential Effects for the project, pursuant to section 106 of the National Historic Preservation Act. The meeting will be held virtually via Microsoft Teams.

f. All local, State, and Federal agencies, Indian Tribes, and other interested parties are invited to participate. If meeting attendees decide to disclose information about a specific location that could create a risk or harm to an archaeological site or Native American cultural resource, attendees other than Vermont SHPO, Tribal representatives, and Commission staff will be excused for that portion of the meeting.

g. A summary of the meeting will be placed in the public record of this proceeding. As appropriate, the meeting summary will include both a public, redacted version that excludes any information about the specific location of any archaeological site or Native American cultural resource; and an unredacted privileged version. Parties planning to attend the meeting should notify Arash Barsari, using the contact information provided above in paragraph (d), by Tuesday, February 11, 2025, to RSVP and to receive specific instructions for logging in to the meeting.

Dated: January 10, 2025.
Debbie-Anne A. Reese,
Secretary.

[FR Doc. 2025-01046 Filed 1-15-25; 8:45 am]

BILLING CODE 6717-01-P